Title 3—

The President

Proclamation 10709 of March 8, 2024

U.S. Hostage and Wrongful Detainee Day, 2024

By the President of the United States of America

A Proclamation

Today—and every day—the United States reaffirms our sacred pledge to American hostages and detainees wrongfully held abroad: We see you. We stand with you. We will not stop working until you are home and reunited with your family.

This has been a priority for my Administration since day one—and we have made important progress. Over the last 3 years, we have brought home more than 60 Americans being held hostage or wrongfully detained around the world, including from Afghanistan, Burma, Gaza, Haiti, Iran, Russia, Rwanda, Venezuela, West Africa, and more. But we have much more work to do. Too many Americans remain illegally and wrongfully detained, fearing for their lives and not knowing what tomorrow will bring. Too many families remain ripped apart, living in agony and uncertainty every day their loved one remains wrongfully held abroad. No family—and no American—should have to endure this suffering and separation.

That is why my Administration has taken unprecedented action to secure the release of all Americans held hostage or wrongfully detained abroad. In 2022, I signed an Executive Order to strengthen our efforts to address the scourge of hostage-taking and wrongful detention, including issuing more severe consequences for actors that illegally detain American citizens and attempt to use human beings as bargaining chips. Last year, we issued the first-ever sanctions against actors—including in Russia and Iran—for engaging in this abhorrent practice. My Administration has also focused on preventing these cases from occurring in the first place. We have joined 74 nations around the world and the European Union in endorsing the Declaration Against Arbitrary Detention. Finally, we have focused on providing families with loved ones held hostage or wrongfully detained abroad with the resources and support services they deserve.

Here at home, the Department of State launched a risk indictor that warns travelers if there is a high threat of wrongful detention at their destination. For more information on travel advisories, go to travel.state.gov.

As President, I have no higher duty than ensuring the safety and security of my fellow Americans—including all those who remain held hostage or wrongfully detained abroad. I will continue to work to bring them home. I will continue to leverage every resource to punish and deter actors who engage in this despicable and unacceptable practice. I will not stop these efforts until every American is accounted for and safely back home. Today—and every day—that is my pledge.

The Congress, by Public Law 118-31 approved December 22, 2023, has designated March 9 of each year as “U.S. Hostage and Wrongful Detainee Day.”

NOW, THEREFORE, I, JOSEPH R. BIDEN JR., President of the United States of America, do hereby proclaim March 9, 2024, as U.S. Hostage and Wrongful Detainee Day. On this day, as we fly the Hostage and Wrongful Detainee flag at the White House, I call upon the people of the United States to observe this day with relevant programs, ceremonies, and activities.

IN WITNESS WHEREOF, I have hereunto set my hand this eighth day of March, in the year of our Lord two thousand twenty-four, and of the Independence of the United States of America the two hundred and forty-eighth.

[FR Doc. 2024-05441

Filed 3-12-24; 8:45 am]

Billing code 3395-F4-P